DEPARTMENT OF COMMERCE

International Trade Administration

[A-834-807]

Notice of Initiation of Antidumping and Countervailing Duty Administrative Reviews and Request for Revocation in Part; Correction

AGENCY: Import Administration, International Trade Administration, Department of Commerce.

ACTION: Notice; correction.

SUMMARY: The Department of Commerce published a notice in the Federal Register on July 1, 2003, concerning the initiation of administrative reviews of various antidumping and countervailing duty orders and findings with May anniversary dates. The document contained incorrect information in the Antidumping Duty Proceedings table.

EFFECTIVE DATES: July 17, 2003.

FOR FURTHER INFORMATION CONTACT: Lisa Shishido or James C. Doyle, AD/CVD Enforcement Group III, Office 9, Import Administration, International Trade Administration, U.S. Department of Commerce, 14th Street and Constitution Avenue, NW., Washington, DC 20230; telephone: (202) 482-1382, or (202) 482-0159, respectively.

Antidumping Duty Proceedings

In the Federal Register of July 1, 2003, 68 FR 39055, in the table entitled “Antidumping Duty Proceedings,” Considar, Inc. was named under Kazakhstan: Silicomanganese, A-834-807, with a period to be reviewed of 5/1/02-4/30/03. While the review was requested by Considar, Inc., the review will be of subject merchandise produced by Transnational Co. Kazchrome and Aksu Ferroalloy Plant (“Kazchrome”). Further, the period to be reviewed will be 11/9/01-4/30/03, which begins at the date of publication of the Preliminary Determination of sales at less than fair value and the subsequent suspension of liquidation.

Dated: July 11, 2003.
Barbara E. Tillman,
Acting Deputy Assistant Secretary for Import Administration, Group III.

[FR Doc. 03-18134 Filed 7-16-03; 8:45 am]

BILLING CODE 3510-DS-P